DEPARTMENT OF THE INTERIOR

National Park Service

Repair Kalaupapa Dock Structure: Kalaupapa National Historical Park, Hawaii; Notice of Termination of an Environmental Impact Statement

SUMMARY: The NPS is terminating an Environmental Impact Statement (EIS) as previously noticed in the Federal Register on April 17, 2009, for repair of the dock structure at Kalaupapa National Historical Park. It has become apparent that an EIS will not be necessary due to reduced scope of the proposed actions such that there is no potential for significant impacts nor controversy surrounding the proposal. Coincident with this termination notice, the NPS is hereby announcing preparation of an Environmental Assessment (EA). The EA will describe two alternatives remaining for consideration, including a no-action alternative, and will analyze potential environmental consequences of the proposed dock repairs, including minor to moderate effects on water quality, benthic resources, coral and essential fish habitats, species protected under the Endangered Species Act and the Marine Mammal Protection Act, historic resources, cultural landscape, ethnographic resources, and park operations. Measures to minimize harm will be included, and an “environmentally preferred” alternative identified.

Background: Kalaupapa National Historic Park (NHP) on Molokai was established in 1980 in recognition of the seminal role of this remote area in development of treatments and care for persons with Hansen's disease. Repairs of Kalaupapa dock structures are necessary to ensure continued barge service for the park and community residents. Timely repair of the structures is needed to preclude disruption of incoming barge service upon which the park and isolated community residents depend for their livelihood (as well as regular outgoing service required for the park's recycling program and other operations and activities).

Originally the NPS planned to prepare an EA, and scoping was conducted during spring and summer 2008. Oral and written comments were obtained from the Kalaupapa patient community and park neighbors; state, county, and federal agencies, including Hawaii Department of Health, the State Historic Preservation Officer, and U.S. Fish and Wildlife Service (USFWS); interested organizations; and native Hawaiian groups. Based on information obtained, it was determined that preparation of an EIS was warranted.

At that time the range of alternatives under consideration was as follows: Alternative A (no action) would have maintained current conditions. Alternative B would have stabilized and repaired bulkhead and low pier walls; repaired a deteriorating concrete pier and a breakwater; and constructed a mooring dolphin to assist with barge landings. Alternative C would have entailed deferred maintenance and dolphin installation similar to Alternative B, as well as dredged the harbor bottom to widen the berthing basin so as to accommodate a variety of sizes of available barges.

Based upon careful consideration of all public comments received to date, as well as further coordination with USFWS and National Marine Fisheries Service, the scope of work originally proposed has been reduced—widening the berthing basin and installation of a mooring dolphin have been dropped from consideration, which will avoid unacceptable impacts to coral and to marine species including the endangered Hawaiian Monk seal. These options will be addressed in the EA as alternatives considered but dismissed from analysis. The preferred alternative in the EA will consist of a maintenance plan, which is restricted to repair of the breakwater, repair of the deteriorating concrete pier, and stabilization of the bulkhead and low pier walls.

SUPPLEMENTARY INFORMATION: All persons on the EIS mailing list will be incorporated into the EA mailing list. Additional information regarding the preparation of the EA may be obtained by contacting Superintendent Steve Prokop, Kalaupapa National Historical Park, P.O. Box 2222, Kalaupapa, HI, 96742, (808) 567-6802. Project updates will also be periodically posted at http://parkplanning.nps.gov/kala, as well as provided through local and regional press media.

Dated: May 28, 2010.
George J. Turnbull,
Acting Regional Director, Pacific West Region.

[FR Doc. 2010-16247 Filed 7-2-10; 8:45 am]

BILLING CODE 4310-GJ-P